DEPARTMENT OF HEALTH AND HUMAN SERVICES

National Institutes of Health

National Center for Research Resources; Notice of Meetings

Pursuant to section 10(d) of the Federal Advisory Committee Act, as amended (5 U.S.C. appendix 2), notice is hereby given of the following meetings.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Scientific and Technical Review Board on Biomedical and Behavioral Research Facilities.

Date: February 23-25, 2004.

Open: February 23, 2004, 8 a.m. to 9 a.m.

Agenda: To discuss planning and other issues.

Place: Gaithersburg Marriott, Washingtonian Center, 9751 Washingtonian Blvd., Gaithersburg, MD 20878.

Closed: February 23, 2004, 9 a.m. to Adjournment.

Agenda: To review and evaluate grant applications.

Place: Gaithersburg Marriott, Washingtonian Center, 9751 Washingtonian Blvd., Gaithersburg, MD 20878.

Contact Person: D.G. Patel, PhD, Scientific Review Administrator, National Institutes of Health, National Center for Research Resources, Office of Review, 6701 Democracy Boulevard, 1 Democracy Plaza, Room 1070, Bethesda, MD 20892, 301-435-0824, pateldg@mail.nih.gov.

Name of Committee: National Center for Research Resources Special Emphasis Panel, Research Infrastructure.

Date: February 25-26, 2004.

Time: February 25, 2004, 8 a.m. to Adjournment.

Agenda: To review and evaluate grant applications.

Place: Marriott Gaithersburg, Washingtonian Center, 9751 Washingtonian Boulevard, Gaithersburg, MD 20878.

Contact Person: Eric H. Brown, PhD, Scientific Review Administrator, Office of Review, National Center for Research Resources, National Institutes of Health, 6701 Democracy Blvd, MSC 4874, Room 1068, Bethesda, MD 20892-4874, 301-435-0815, browne@mail.nih.gov.

Name of Committee: National Center for Research Resources Special Emphasis Panel, Research Infrastructure.

Date: March 10-11, 2004.

Time: March 10, 2004, 8 a.m. to Adjournment.

Agenda: To review and evaluate grant applications.

Place: Marriott Gaithersburg, Washingtonian Center, 9751 Washingtonian Boulevard, Gaithersburg, MD 20878.

Contact Person: Eric H. Brown, PhD, Scientific Review Administrator, Office of Review, National Center for Research Resources, National Institutes of Health, 6701 Democracy Blvd, MSC 4874, Room 1068, Bethesda, MD 20892, 301-435-0815, browne@mail.nih.gov.

(Catalogue of Federal Domestic Assistance Program Nos. 93.306, Comparative Medicine; 93.333, Clinical Research; 93.371, Biomedical Technology; 93.389, Research Infrastructure, 93.306, 93.333, National Institutes of Health, HHS)

Dated: January 6, 2004.
LaVerne Y. Stringfield,
Director, Office of Federal Advisory Committee Policy.

[FR Doc. 04-578 Filed 1-9-04; 8:45 am]

BILLING CODE 4140-01-M